DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by Peabody Museum of Archaeology and Ethnology professional staff in consultation with representatives of the Osage Tribe, Oklahoma.

Between 1844 and 1866, human remains representing one individual were collected from an unknown location in Arkansas by any of the following: Horace Mann, the Medical Improvement Society, or Jeffries Wyman.

These human remains were sold to the Boston Society of Natural History, Boston, MA, which donated the remains to the Peabody Museum in 1916. No known individual was identified. No associated funerary objects are present.

Peabody Museum documentation describes the individual as an “Osage chief.” The attribution of such a specific cultural affiliation to the human remains indicates that the interment postdates sustained contact between indigenous groups and Europeans beginning in the 17th century in traditional Osage territory. Arkansas, where the human remains were collected, includes part of traditional Osage territory. Oral tradition and historic evidence support the cultural affiliation with the Osage Tribe, Oklahoma.

Based on the above-mentioned information, officials of the Peabody Museum of Archaeology and Ethnology have determined that, pursuant to 43 CFR 10.2(d)(1), the human remains listed above represent the physical remains of one individual of Native American ancestry. Officials of the Peabody Museum of Archaeology and Ethnology also have determined that, pursuant to 43 CFR 10.2(e), there is a relationship of shared group identity that can be reasonably traced between these Native American human remains and the Osage Tribe, Oklahoma.

This notice has been sent to officials of the Osage Tribe, Oklahoma. Representatives of any other Indian tribe that believes itself to be culturally affiliated with these human remains should contact Barbara Isaac, Repatriation Coordinator, Peabody Museum of Archaeology and Ethnology, Harvard University, 11 Divinity Avenue, Cambridge, MA 02138, telephone (617) 495-2554, before March 12, 2001. Repatriation of the human remains to the Osage Tribe, Oklahoma may begin after that date if no additional claimants come forward.

Dated: January 24, 2001.
John Robbins,
Assistant Director, Cultural Resources Stewardship and Partnerships.

[FR Doc. 01-3356 Filed 2-8-01; 8:45 am]

BILLING CODE 4310-70-M